DEPARTMENT OF HEALTH AND HUMAN SERVICES

National Institutes of Health

Eunice Kennedy Shriver National Institute of Child Health and Human Development; Notice of Meeting

Pursuant to section 1009 of the Federal Advisory Committee Act, as amended, notice is hereby given of a meeting of the National Advisory Board on Medical Rehabilitation Research. The meeting will be held as a virtual meeting and is open to the public. Individuals who plan to attend as well as those who need special assistance, such as sign language interpretation or other reasonable accommodations, should notify the Contact Person listed as below in advance of the meeting. The meeting will be videocast and can be accessed from the NIH Videocasting website (http://videocast.nih.gov).

Name of Committee: National Advisory Board on Medical Rehabilitation Research.

Date: May 6-7, 2024.

Time: May 6, 2024, 10:00 a.m. to 2:00 p.m.

Agenda: NICHD Director's Report, NCMRR Director's report; Scientific Presentation on Promoting Function and Inclusion for people with Spinal Cord Injury; Review of NINDS Traumatic Brain Injury Nomenclature Workshop; Concept Clearance.

Place: Eunice Kennedy Shriver National Institute of Child Health and Human Development, National Institutes of Health, 6710B Rockledge Drive, Bethesda, MD 20892-7510 (Virtual Meeting).

Time: May 7, 2024, 10:00 a.m. to 2:30 p.m.

Agenda: Science Talk: Advocating for Cerebral Palsy Research; Update from NICHD Office of Health Equity; Pediatric Medical Device Public-Private Partnerships; Updates from The Advanced Research Projects Agency for Health; Updating the NIH Rehabilitation Research Plan; Words from Retiring Board Members; Planning for Next Board Meeting in December 2024.

Place: Eunice Kennedy Shriver National Institute of Child Health and Human Development, National Institutes of Health, 6710B Rockledge Drive, Bethesda, MD 20892-7510 (Virtual Meeting).

Contact Person: Ralph M. Nitkin, Ph.D., Deputy, National Center for Medical Rehabilitation Research, Eunice Kennedy Shriver National Institute of Child Health and Human Development, National Institutes of Health, 6710B Rockledge Drive, Room 2116, Bethesda, MD 20892-7510, (301) 402-4206, nitkinr@mail.nih.gov.

Information is also available on the Institute's/Center's home page: https://www.nichd.nih.gov/about/advisory/nabmrr, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: March 12, 2024.
Lauren A. Fleck,
Program Analyst, Office of Federal Advisory Committee Policy.

[FR Doc. 2024-05653 Filed 3-15-24; 8:45 am]

BILLING CODE 4140-01-P